FEDERAL LABOR RELATIONS AUTHORITY

Senior Executive Service Performance Review Board

AGENCY: Federal Labor Relations Authority.

ACTION: Notice.

SUMMARY: The Federal Labor Relations Authority (FLRA) publishes the names of the persons selected to serve on its SES Performance Review Board (PRB). This notice supersedes all previous notices of the PRB membership.

DATES: Upon publication.

ADDRESSES: Written comments about this final rule can be emailed to EngagetheFLRA@flra.gov or sent to the Case Intake and Publication Office, Federal Labor Relations Authority, 1400 K Street NW., Washington, DC 20424. All written comments will be available for public inspection during normal business hours at the Case Intake and Publication Office.

FOR FURTHER INFORMATION CONTACT: Gina K. Grippando, Counsel for Regulatory and Public Affairs, Federal Labor Relations Authority, Washington, DC 20424, (202) 218-7776.

SUPPLEMENTARY INFORMATION: Section 4314(c) of Title 5, U.S.C. requires each agency to establish, in accordance with regulations prescribed by the Office of Personnel Management, one or more PRBs. The PRB shall review and evaluate the initial appraisal of a senior executive's performance by the supervisor, along with any response by the senior executive, and make recommendations to the final rating authority relative to the performance of the senior executive.

The persons named below have been selected to serve on the FLRA's PRB.

PRB Chairman:

James T. Abbott, Chief Counsel to the Acting Chairman

PRB Members:

Richard S. Jones, Regional Director, Atlanta Regional Office; Kimberly D. Moseley, Executive Director, Federal Service Impasses Panel; Peter A. Sutton, Acting General Counsel; William R. Tobey, Chief Counsel to Member DuBester.

Dated: August 28, 2017.
Michael W. Jeffries,
Acting Executive Director.

[FR Doc. 2017-18513 Filed 8-30-17; 8:45 am]

BILLING CODE P